CONSUMER PRODUCT SAFETY COMMISSION

16 CFR Part 1218

[CPSC Docket No. CPSC-2010-0028]

Safety Standard for Bassinets and Cradles; Notice of Comment Period Extension

AGENCY: Consumer Product Safety Commission.

ACTION: Proposed rule; extension of comment period.

SUMMARY: On April 16, 2024, the Consumer Product Safety Commission (CPSC) published in the Federal Register a notice of proposed rulemaking (NPR) to amend the existing regulation for bassinets and cradles, to ensure that the rule addresses identified hazards and that these sleep products for young infants provide the highest level of safety feasible. The NPR invited the public to submit written comments during a 60-day comment period, beginning on the NPR publication date, and ending on June 17, 2024. In response to a request for a 90-day extension of the comment period, the Commission is extending the comment period for this NPR by 45 days.

DATES: Submit comments by August 1, 2024.

ADDRESSES: Comments related to the Paperwork Reduction Act aspects of the marking, labeling, and instructional literature requirements of the NPR should be directed to the Office of Information and Regulatory Affairs, the Office of Management and Budget, Attn: CPSC Desk Officer, FAX: 202-395-6974, or emailed to: oira_submission@omb.eop.gov.

Submit all other comments, identified by Docket No. CPSC-2010-0028, by any of the following methods:

Electronic Submissions: Submit electronic comments to the Federal eRulemaking Portal at: https://www.regulations.gov. Follow the instructions for submitting comments. CPSC typically does not accept comments submitted by email, except through www.regulations.gov. CPSC encourages you to submit electronic comments by using the Federal eRulemaking Portal, as described above.

Mail/Hand Delivery/Courier/Confidential Written Submissions: Submit comments by mail, hand delivery, or courier to: Office of the Secretary, Consumer Product Safety Commission, 4330 East-West Highway, Bethesda, MD 20814; (301) 504-7479. If you wish to submit confidential business information, trade secret information, or other sensitive or protected information that you do not want to be available to the public, you may submit such comments by mail, hand delivery, or courier, or you may email them to: cpsc-os@cpsc.gov.

Instructions: All submissions must include the agency name and docket number. CPSC may post all comments without change, including any personal identifiers, contact information, or other personal information provided, to https://www.regulations.gov. Do not submit through this website: Confidential business information, trade secret information, or other sensitive or protected information that you do not want to be available to the public. If you wish to submit such information, please submit it according to the instructions for mail/hand delivery/courier/confidential written submissions.

Docket: For access to the docket to read background documents or comments received, go to: https://www.regulations.gov, and insert the docket number, CPSC-2010-0028, into the “Search” box, and follow the prompts.

FOR FURTHER INFORMATION CONTACT: Celestine T. Kish, Project Manager, Division of Human Factors, Directorate for Engineering Sciences, Consumer Product Safety Commission, 5 Research Place, Rockville, MD 20850; 301-987-2547; ckish@cpsc.gov.

SUPPLEMENTARY INFORMATION:

A. Background

Pursuant to section 104(b)(1) of the Consumer Product Safety Improvement Act of 2008 (CPSIA; 15 U.S.C. 2056a(b)(1)), the Commission promulgated the current mandatory standard for bassinets and cradles (bassinets/cradles) in October 2013. 78 FR 63019 (Oct. 23, 2013); see Safety Standard for Bassinets and Cradles, codified at 16 CFR part 1218 (part 1218). Part 1218 incorporates by reference the 2013 version of the bassinets/cradles voluntary standard, ASTM F2194-13, Standard Consumer Safety Specification for Bassinets and Cradles (ASTM F2194-13), with modifications to make the standard more stringent, to further reduce the risk of injury associated with bassinets/cradles.¹

¹ After issuing the mandatory standard in 2013, ASTM International (ASTM) published several revisions to ASTM F2194, including ASTM F2194-2013a, -2016, and -2016ε¹. ASTM did not notify CPSC of these revisions, so the mandatory rule has not been updated since 2013. However, ASTM F2194-2016ε¹ is substantially the same as the existing mandatory rule for bassinets/cradles codified in part 1218. 86 FR 33022, 33034-35 (June 3, 2021).

Section 104(b)(2) of the CPSIA requires that after the Commission issues mandatory safety standards for durable infant or toddler products, the Commission shall periodically review and revise the standards to ensure that such standards provide the highest level of safety for such products that is feasible. 15 U.S.C. 2056a(b)(2). Accordingly, on April 16, 2024, the Commission published an NPR in the Federal Register proposing to amend part 1218 to address the hazards identified in the NPR and to ensure that the mandatory bassinet/cradle regulation provides the highest level of safety feasible.² 89 FR 27246. The proposed modifications to part 1218 would remove a product category—compact bassinets—and address five identified hazard patterns associated with young infants. The NPR proposed to incorporate by reference ASTM F2194-22ε¹, with modifications to further reduce the risk of injury associated with bassinets, and to provide the highest level of safety that is feasible for such products. 89 FR 27246, 27247. The 60-day comment period closes on June 17, 2024.³

² On March 20, 2024, the Commission voted (4-0) to publish the NPR, available at: https://www.cpsc.gov/s3fs-public/Commission-Meeting-Minutes-NPR-Safety-Standard-for-Bassinets-and-Cradles.pdf?VersionId=GwpmKZ4S9sRrEiBmDFaEWn1fBre6eZ2r.

³ Staff provided a February 28, 2024, Memorandum, Staff's Draft Proposed Rule to Revise the Safety Standard for Bassinets and Cradles in support of the NPR, which is available at: https://www.cpsc.gov/s3fs-public/Briefing-Package-Draft-Notice-of-Proposed-Rulemaking-Safety-Standard-for-Bassinets-and-Cradles.pdf?VersionId=l37iJVSjn32WnUTBDV27L6c37uJC4Iis. The NPR contains an overview of staff's assessment and analysis, and the Commission's basis for issuing the NPR, which is based on the 2022 Bassinet Rejection Staff Briefing Package. Based on the information and analysis in the NPR and related staff packages, the Commission preliminarily determined that the proposed requirements are more stringent than the requirements in ASTM F2194-22ε¹, would further reduce the risk of injury associated with products within the scope of the NPR, and would provide the highest level of safety that is feasible for such products. The Commission specifically sought comment on the feasibility of each proposed requirement, including technical feasibility.

B. Request for Comment Period Extension

On May 22, 2024, Lisa Trofe, Executive Director of the Juvenile Products Manufacturers Association (JPMA), on behalf of JPMA's members and ten companies that individually co-signed the request, submitted a request for a 90-day extension of the NPR comment period (JPMA request).4 5 The JPMA request asserts that the 60-day comment period is insufficient, providing three primary reasons for additional time to provide comments: (1) prototyping and evaluating new product designs to “understand if the proposed requirements are feasible, and what new hazards, if any, such designs could create”; (2) testing to evaluate the proposed side-to-side “zero-degree tilt angle, plus or minus one degree,” including the proper equipment needed for repeatable measurements and considering the tilt angle requirement which they allege “does not consider the stacked tolerances of building construction and laboratory floors or consumer floors” and how this may impact the test results; and (3) evaluating the availability of equipment needed to test the proposed side wall rigidity requirement.

⁴ JMPA's request has been placed on the docket for this rulemaking, as well as attached as to Staff's June 5, 2024, Briefing Memorandum: Proposed Rule to Amend the Safety Standard for Bassinets and Cradles; Request to Extend Comment Period (Staff Briefing Memo), available at: https://www.cpsc.gov/s3fs-public/NPR-Safety-Standard-for-Bassinets-and-Cradles-Draft-Federal-Notice-Regarding-Extension-of-Comment-Period.pdf?VersionId=dBX_tnUc3LSd5vG6_S0UbuLliqi4wPkx.

⁵ On June 11, 2024, the Commission voted (4-1) to publish this notice. Commissioner Feldman issued a statement with his vote, available at: https://www.cpsc.gov/s3fs-public/RCA-NPR-Safety-Standard-for-Bassinets-and-Cradles-Draft-Federal-Notice-Regarding-Extension-of-Comment-Period.pdf?VersionId=SbjP34yYPSsuhrXa6p1TG9s9bVhkjVWg.

C. Assessment of the JPMA Request

The testing equipment identified in the NPR is the same equipment currently identified in the ASTM standard and CPSC's regulation,6 7 and therefore, stakeholders do not require additional time to test and evaluate equipment. Moreover, based on CPSC staff's experience testing sample bassinets/cradles to the NPR proposals, testing should not require more than 10 business days to test up to 15 product samples; an additional 90 days, totaling 5 months (60 days plus 90 days), is unnecessary to assess products to the NPR requirements and provide feedback. However, we agree with JPMA that prototype design, evaluation, and testing to the zero-degree side-to-side tilt angle, plus or minus one degree, and other proposed requirements may require additional time. Assessing how to modify products to feasibly meet the proposed modifications, identifying any new potential hazards, and providing comments on these assessments may benefit from more than the 60 days provided in the NPR. Providing additional time in the comment period will allow manufacturers to produce prototypes that are closer to the final design specifications and that will more accurately reflect what a manufacturer finds to be achievable.

⁶ ASTM F2194-22ε¹ specifies in section 4.6 that angle measurements shall be taken using a digital inclinometer with a 0.1° minimum resolution for angle measurements. However, section 7.8 specifies the use of a digital inclinometer with a 0.5° minimum resolution. Users of the standard should use the more precise instrumentation to ensure they are following all applicable sections of the standard.

⁷ It is common and a known test setup for lab floors to be 0 +/- 0.5 degrees. This is already addressed in ASTM F2194-22ε¹, see section 7.10 Rock/Swing Angle Tests. Additionally, the test requires to ZERO out the inclinometer on that test surface (floor) before starting the test to minimize any influence of the floor on the bassinet angle measurements.

D. Conclusion

The Commission has considered the JPMA request to extend the comment period and staff's assessment of the request. Currently, the comment period is due to close on June 17, 2024. To provide sufficient time for stakeholders to prototype and evaluate new designs, and to assess and provide comment on the NPR proposals, especially as it relates to specific products, the Commission will grant a 45-day extension of the comment period, until August 1, 2024.

Alberta E. Mills,
Secretary, Consumer Product Safety Commission.

[FR Doc. 2024-13330 Filed 6-17-24; 8:45 am]

BILLING CODE 6355-01-P